DEPARTMENT OF COMMERCE

National Oceanic and Atmospheric Administration

50 CFR Part 635

[Docket No. 100622276-0569-02]

RIN 0648-XA580

Atlantic Highly Migratory Species; Inseason Action To Close the Commercial Non-Sandbar Large Coastal Shark Research Fishery

AGENCY: National Marine Fisheries Service (NMFS), National Oceanic and Atmospheric Administration (NOAA), Commerce.

ACTION: Notification of fishery closure.

SUMMARY: NMFS is closing the commercial shark research fishery for non-sandbar large coastal sharks (LCS). This action is necessary because landings for the 2011 fishing season have reached at least 80 percent of the available quota.

DATES: The commercial shark research fishery for non-sandbar LCS is closed effective 11:30 p.m. local time July 26, 2011 until, and if, NMFS announces, via a notice in the Federal Register, that additional quota is available and the season is reopened.

FOR FURTHER INFORMATION CONTACT: Karyl Brewster-Geisz or Peter Cooper, 301-427-8503; fax 301-713-1917.

SUPPLEMENTARY INFORMATION: The Atlantic shark fisheries are managed under the 2006 Consolidated Atlantic Highly Migratory Species (HMS) Fishery Management Plan (FMP), its amendments, and its implementing regulations found at 50 CFR part 635 issued under authority of the Magnuson-Stevens Fishery Conservation and Management Act (16 U.S.C. 1801 et seq.).

Under § 635.5(b)(1), shark dealers are required to report to NMFS all sharks landed every two weeks. Dealer reports for fish received between the 1st and 15th of any month must be received by NMFS by the 25th of that month. Dealer reports for fish received between the 16th and the end of any month must be received by NMFS by the 10th of the following month. Under § 635.28(b)(2), when NMFS projects that fishing season landings for a species group have reached or are about to reach 80 percent of the available quota, NMFS will file for publication with the Office of the Federal Register a notice of closure for that shark species group that will be effective no fewer than 5 days from the date of filing. From the effective date and time of the closure until NMFS announces, via a notice in the Federal Register, that additional quota is available and the season is reopened, the fishery for that species group is closed, even across fishing years.

On December 8, 2010 (75 FR 76302), NMFS announced that the shark research fishery for the 2011 fishing year was open and the available non-sandbar LCS research fishery quota was 37.5 metric tons (mt) dressed weight (dw) (82,673 lb dw). Dealer and observer reports received through the July 14, 2011, indicate that 31.3 mt dw or 83 percent of the available shark research fishery quota for non-sandbar LCS has been landed. Dealer reports received to date indicate that 5 percent of the quota was landed from the opening of the fishery on January 1, 2011, through January 31, 2011; 21 percent of the quota was landed in February; 15 percent of the quota was landed in March; 10 percent of the quota was landed in April; 19 percent of the quota was landed in May; and 13 percent of the quota was landed in June. The fishery has reached 83 percent of the quota, which exceeds the 80-percent limit specified in the regulations. Accordingly, NMFS is closing the commercial non-sandbar LSC research fishery as of 11:30 p.m. local time July 26, 2011. This closure does not affect any other shark fishery.

During the closure, persons engaged in a shark research fishery trip aboard vessels issued a shark research permit under 50 CFR 635.32(f) with a NMFS-approved observer onboard, may not retain non-sandbar LCS. Vessels issued a shark research permit that are engaged in a commercial shark fishing trip outside of the shark research fishery may retain non-sandbar LCS caught in the Atlantic region, as long as the Atlantic region remains open for commercial harvest of non-sandbar LCS by Atlantic shark limited access permit holders. A shark dealer issued a permit pursuant to § 635.4 may not purchase or receive non-sandbar LCS from a vessel issued a shark research permit returning from a shark research fishery trip with a NMFS-approved observer on board. Permitted shark dealers or processors may possess non-sandbar LCS that were harvested during a shark research fishery trip, as long as the non-sandbar LCS were off-loaded, and sold, traded, or bartered, prior to the effective date of the closure and were held in storage.

Classification

Pursuant to 5 U.S.C. 553(b)(B), the Assistant Administrator for Fisheries, NOAA (AA), finds that providing for prior notice and public comment for this action is impracticable and contrary to the public interest because the fishery is currently underway, and any delay in this action would cause overharvest of the quota and be inconsistent with management requirements and objectives. If the quota is exceeded, the affected public is likely to experience reductions in the available quota and a lack of fishing opportunities in future seasons. For these reasons, the AA also finds good cause to waive the 30-day delay in effective date pursuant to 5 U.S.C. 553 (d)(3). This action is required under § 635.28(b)(2) and is exempt from review under Executive Order 12866.

Authority: 16 U.S.C. 1801 et seq.

Dated: July 21, 2011.
Emily H. Menashes,
Acting Director, Office of Sustainable Fisheries, National Marine Fisheries Service.

[FR Doc. 2011-18865 Filed 7-21-11; 4:15 pm]

BILLING CODE 3510-22-P